DEPARTMENT OF DEFENSE

Department of the Navy

Revised Notice of Intent To Prepare an Environmental Impact Statement/Overseas Environmental Impact Statement for the Virginia Capes Range Complex and Notice of Request for Public Scoping Comments

AGENCY: Department of the Navy, DoD.

ACTION: Notice.

SUMMARY: This notice is to inform the public that the Department of the Navy is expanding the Virginia Capes (VACAPES) Range Complex Environmental Impact Statement/Overseas Environmental Impact Statement (EIS/OEIS) area of consideration and to invite the public to provide comments for consideration during preparation of the EIS/OEIS. Since the December 2006 EIS/OEIS scoping notice [FR 71143], potential shallow water inert mine warfare training areas have been identified in the southern portion of the Chesapeake Bay, south of latitude 37° 25′N. The proposed training areas would consist of instrumented shapes placed temporarily for training purposes. Each of the two proposed training areas would be approximately one by four square nautical miles in area. Training in these mine warfare areas would not involve use of active sonar. Arrangement could vary periodically and location within the proposed training areas would vary depending on operational requirements; however shipping lanes will be avoided. Divers will be required to perform periodic maintenance and replacement of the instrumented shapes.

Scoping comments previously submitted following publication of the December 2006 Notice of Intent to Prepare an EIS/OEIS for the VACAPES Range Complex are still valid and need not be resubmitted. The Navy encourages additional comments or concerns on the expanded area of consideration. VACAPES Range Complex requirements, additional EIS/OEIS information, proposed action background, alternatives, environmental considerations, and public participation inputs can be found at http://www.vacapesrangecomplexeis.com. More detailed information regarding this notice of intent can be found on the project Web site.

FOR FURTHER INFORMATION CONTACT: Ms. Erin Swiader, Naval Facilities Engineering Command Atlantic, 6506 Hampton Boulevard, Norfolk, Virginia 23508-1278; telephone: 757-322-4960. You may submit written comments to Naval Facilities Engineering Command Atlantic, 6506 Hampton Boulevard, Norfolk, Virginia 23508-1278, Attn: Code EV22 (VACAPES Range Complex EIS PM), facsimile: 757-322-4894. Comments will be accepted via mail, fax, and on the Web site at http://www.vacapesrangecomplexeis.com until September 30, 2007.

Dated: August 30, 2007.
T.M. Cruz,
Lieutenant, Judge Advocate General's Corps, U.S. Navy, Federal Register Liaison Officer.

[FR Doc. E7-17521 Filed 9-4-07; 8:45 am]

BILLING CODE 3810-FF-P